DEPARTMENT OF HEALTH AND HUMAN SERVICES

Administration for Children and Families

[OMB No. 0970-0106]

Proposed Information Collection Activity; LIHEAP Carryover and Reallotment Report

AGENCY: Office of Community Services, Administration for Children and Families, HHS.

ACTION: Request for Public Comment.

SUMMARY: The Administration for Children and Families (ACF) is requesting renewal of the Low Income Home Energy Assistance Program (LIHEAP) Carryover and Reallotment Report (Office of Management and Budget (OMB) #0970-0106, expiration date April 30, 2022) with changes. Changes include the addition of one and the removal of two sources in pre-populated lines, the re-descriptions of annual funding sources, and minor wording changes.

DATES: Comments due within 60 days of publication. In compliance with the requirements of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The LIHEAP statute and regulations require LIHEAP grant recipients to report certain information to HHS concerning funds forwarded and funds subject to reallotment. The 1994 reauthorization of the LIHEAP statute, the Human Services Amendments of 1994 (Public Law 103-252), requires that the carryover and reallotment report for one fiscal year be submitted to HHS by the grant recipient before the allotment for the next fiscal year may be awarded.

We are requesting minor changes in the collection of data with the Carryover and Reallotment Report for FY 2022, a form for the collection of data, and the Simplified Instructions for Timely Obligations of LIHEAP Regular Block Grant, Reallotted, and Supplemental Funds and Reporting Funds for Carryover and Reallotment. The form clarifies the information being requested and ensures the submission of all the required information. The form facilitates our response to numerous queries each year concerning the amounts of obligated funds. Use of the form is mandatory for prior-year grant recipients that seek current current-year LIHEAP funds.

Respondents: State governments, tribal governments, insular areas, and the District of Columbia.

Annual Burden Estimates
Instrument | Total number of respondents | Annual number of responses per respondent | Average burden hours per response | Annual burden hours
LIHEAP Carryover and Reallotment Report | 207 | 1 | 7 | 1,449

Estimated Total Annual Burden Hours: 1,449.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 42 U.S.C. 8626(b)(2)(B).

Mary B. Jones,
ACF/OPRE Certifying Officer.

[FR Doc. 2022-02929 Filed 2-10-22; 8:45 am]

BILLING CODE 4184-80-P